DEPARTMENT OF HOUSING AND URBAN DEVELOPMENT

[Docket No. FR-4817-N-08]

Notice of Proposed Information Collection for Public Comment for the Section Eight Management Assessment Program (SEMAP)

AGENCY: Office of the Assistant Secretary for Public and Indian Housing.

ACTION: Notice.

SUMMARY: The proposed information collection requirement described below will be submitted to the Office of Management and Budget (OMB) for review, as required by the Paperwork Reduction Act. The Department is soliciting public comments on the subject proposal.

DATES: Comments Due Date: August 18, 2003.

ADDRESSES: Interested persons are invited to submit comments regarding this proposal. Comments should refer to the proposal by name and/or OMB Control Number and should be sent to: Mildred M. Hamman, Reports Liaison Officer, Public and Indian Housing, Department of Housing & Urban Development, 451—7th Street, SW., Room 4249, Washington, DC 20410-5000.

FOR FURTHER INFORMATION CONTACT: Mildred M. Hamman, (202) 708-0614, extension 4128, for copies of the proposed forms and other available documents. (This is not a toll-free number). For hearing- and speech-impaired persons, this telephone number may be accessed via TTY (Text telephone) by calling the Federal Information Relay Services at 1-800-877-8339 (toll-free).

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This notice also lists the following information:

Title of Proposal: Section Eight Management Assessment Program (SEMAP).

OMB Control Number: 2577-0215.

Description of the Need for the Information and Proposed Use: Public Housing Agencies (PHAs) prepare and submit an electronic submission to HUD that certifies the PHA's SEMAP performance in 14 key program areas involving the administration and operation of the Housing Choice Voucher Program. The certification profile is reviewed by HUD. Following review, HUD assigns each PHA an annual SEMAP score and performance designation denoting whether the PHA is a High, Standard or Troubled PHA. PHAs that are designated High or Standard must correct all cited deficiencies within a stand timeframe and may be required to develop a corrective action plan to resolve the areas of program non-compliance. PHAs designated Troubled must submit a corrective action plan to HUD for review and approval that outlines the areas of program non-compliance and details the corrective strategies the PHA will implement to resolve the cited deficiencies. During the recovery process, HUD will monitor the success of the recovery progress and provide technical assistance to the PHA. Following completion of the corrective action plan, HUD will confirm the success of the recovery effort and remove the PHA from HUD's listing of troubled PHAs.

Agency form number: HUD-52648.

Members of the Affected Public: PHAs, State and Local Governments, businesses or other for-profits.

Estimation Including the Total Number of Hours Needed to Prepare the Information Collection for the Number of Respondents, Frequency of Response, and Hours of Response: The number of respondents (2500 PHAs) are required to submit an electronic SEMAP certification to HUD each year within 60 calendar days following the end of the PHA's fiscal year end date. The number of hours that are anticipated regarding the certification process should not exceed two hours per PHA per year, therefore, 5,000 hours. In addition, the number of hours that are anticipated regarding the requirement for the PHAs to examine samples of tenant file data, for quality control purposes, should not exceed 80 hours per PHA per year, therefore, 200,000 hours.

Of that number, it is anticipated that approximately 10 percent or 250 PHAs will be troubled and required to develop and implement a corrective active plan. The number of hours that are anticipated regarding the development and implementation of a corrective action plan for those PHAs that are designated troubled, varies based on the number and extent of program violations at each troubled PHA as well as the extent of correction that will be required to remedy the actual violation. The number of hours that will be required for this process are too difficult to estimate.

Status of the Proposed Information Collection: Extension is not anticipated to result in any substantive changes concerning the foregoing requirements.

Authority: Section 3506 of the Paperwork Reduction Act of 1995, 44 U.S.C. Chapter 35, as amended.

Dated: June 11, 2003.
Michael Liu,
Assistant Secretary for Public and Indian Housing.

BILLING CODE 4210-33-P

[FR Doc. 03-15299 Filed 6-17-03; 8:45 am]

BILLING CODE 4210-33-C